DEPARTMENT OF TRANSPORTATION

Federal Aviation Administration

14 CFR Part 73

[Docket No. FAA-2004-19438; Airspace Docket No. 04-ASO-9]

RIN 2120-AA66

Amendment to Restricted Areas 2932, 2933, 2934, and 2935; Cape Canaveral, FL

AGENCY: Federal Aviation Administration (FAA), DOT.

ACTION: Final rule.

SUMMARY: This action modifies Restricted Areas 2932, 2933, 2934, 2935 (R-2932, R-2933, R-2934, and R-2935), Cape Canaveral Air Force Station (AFS), FL. Specifically, this action changes the name of the using agency for these areas from “U.S. Air Force, Eastern Space and Missile Center/RRS, Cape Canaveral AFS, FL,” to “Commander, 1st Range Operations Squadron, Cape Canaveral AFS, FL.” This action is being taken to reflect the current organizational structure at Cape Canaveral AFS, FL, but does not change the boundaries, altitudes, time of designation, or use of the restricted areas.

EFFECTIVE DATE: 0901 UTC, January 20, 2004.

FOR FURTHER INFORMATION CONTACT: Paul Gallant, Airspace and Rules, Office of System Operations and Safety, Federal Aviation Administration, 800 Independence Avenue, SW., Washington, DC 20591; telephone (202) 267-8783.

SUPPLEMENTARY INFORMATION

Background

On February 25, 2004, the airspace manager for the 45th Space Wing, Cape Canaveral AFS, FL, requested a change to the using agency information for R-2932, R-2933, R-2934, and R-2935 to reflect the current organizational structure. This action responds to this request.

The Rule

The FAA is amending Title 14 Code of Federal Regulations (14 CFR) part 73 (part 73) by modifying R-2932, R-2933, R-2934, and R-2935, Cape Canaveral AFS, FL. Specifically, this action changes the using agency name from “U.S. Air Force, Eastern Space and Missile Center/RRS, Cape Canaveral AFS, FL,” to “Commander, 1st Range Operations Squadron, Cape Canaveral AFS, FL.” This action is an administrative change to reflect the current organization name of the using agency. This action does not alter the boundaries, altitudes, time of designation, or activities conducted within the restricted areas. Therefore, notice and public procedure under 5 U.S.C. 553(b) are unnecessary.

Section 73.29 of part 73 of the Federal Aviation Regulations was republished in FAA Order 7400.8L, dated October 7, 2003.

This regulation is limited to an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. It has been determined that this is a routine matter that will only affect air traffic procedures and air navigation, it is certified that this rule, when promulgated, will not have a significant economic impact on a substantial number of small entities under the criteria of the Regulatory Flexibility Act.

Environmental Review

This action is a minor administrative change to update the using agency name for existing restricted areas. There are no changes to air traffic procedures or routes as a result of this action. Therefore, the FAA determined that this action qualifies for a categorical exclusion from further environmental analysis under the National Environmental Policy Act in accordance with FAA Order 1050.1E, “Environmental Impacts: Policies and Procedures,” paragraph 311d.

List of Subjects in 14 CFR Part 73

Airspace, Navigation (air).

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.29 [Amended]

2. § 73.29 is amended as follows:

* * * * *

R-2932 Cape Canaveral, FL [Amended]

By removing the words “Using agency. U.S. Air Force, Eastern Space and Missile Center/RRS, Cape Canaveral AFS, FL,” and substituting “Using agency. Commander, 1st Range Operations Squadron, Cape Canaveral AFS, FL.”

R-2933 Cape Canaveral, FL [Amended]

By removing the words “Using agency. U.S. Air Force, Eastern Space and Missile Center/RRS, Cape Canaveral AFS, FL,” and substituting “Using agency. Commander, 1st Range Operations Squadron, Cape Canaveral AFS, FL.”

R-2934 Cape Canaveral, FL [Amended]

By removing the words “Using agency. U.S. Air Force, Eastern Space and Missile Center/RRS, Cape Canaveral AFS, FL,” and substituting “Using agency. Commander, 1st Range Operations Squadron, Cape Canaveral AFS, FL.”

R-2935 Cape Canaveral, FL [Amended]

By removing the words “Using agency. U.S. Air Force, Eastern Space and Missile Center/RRS, Cape Canaveral AFS, FL,” and substituting “Using agency. Commander, 1st Range Operations Squadron, Cape Canaveral AFS, FL.”

* * * * *

Issued in Washington, DC, on November 16, 2004.
Reginald C. Matthews,
Manager, Airspace and Rules.

[FR Doc. 04-25882 Filed 11-22-04; 8:45 am]

BILLING CODE 4910-13-P